DEPARTMENT OF ENERGY

Federal Energy Regulatory Commission

Combined Notice of Filings #2

Take notice that the Commission received the following electric rate filings:

Docket Numbers: ER13-2022-002.

Applicants: Pacific Gas and Electric Company.

Description: Report Filing: TO15 Compliance Electric Refund Report to be effective N/A.

Filed Date: 9/16/15.

Accession Number: 20150916-5052.

Comments Due: 5 p.m. ET 10/7/15.

Docket Numbers: ER15-2529-000.

Applicants: Censtar Energy Corp.

Description: Supplement to August 26, 2015 Censtar Energy Corp. tariff filing.

Filed Date: 9/16/15.

Accession Number: 20150916-5059.

Comments Due: 5 p.m. ET 9/28/15.

Docket Numbers: ER15-2530-000.

Applicants: Censtar Operating Company, LLC.

Description: Supplement to August 26, 2015 Censtar Operating Company, LLC tariff filing.

Filed Date: 9/16/15.

Accession Number: 20150916-5058.

Comments Due: 5 p.m. ET 9/28/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 16, 2015.
Nathaniel J. Davis, Sr.,
Deputy Secretary.

[FR Doc. 2015-23985 Filed 9-21-15; 8:45 am]

BILLING CODE 6717-01-P